INTERNATIONAL TRADE COMMISSION

[Investigation No. 337-TA-1333]

Certain Automated Put Walls and Automated Storage and Retrieval Systems, Associated Vehicles, Associated Control Software, and Component Parts Thereof (II); Notice of Commission Determination Not To Review an Initial Determination Terminating the Investigation Based on Withdrawal of the Complaint; Termination of the Investigation

AGENCY: International Trade Commission.

ACTION: Notice.

SUMMARY: Notice is hereby given that the U.S. International Trade Commission has determined not to review an initial determination (“ID”) (Order No. 7) issued by the presiding Chief Administrative Law Judge (“CALJ”) in the above-captioned investigation and terminating the investigation in its entirety based on the complainant's withdrawal of the complaint. The investigation is terminated.

FOR FURTHER INFORMATION CONTACT: Robert Needham, Office of the General Counsel, U.S. International Trade Commission, 500 E Street SW, Washington, DC 20436, telephone (202) 708-5468. Copies of non-confidential documents filed in connection with this investigation may be viewed on the Commission's electronic docket (EDIS) at https://edis.usitc.gov. For help accessing EDIS, please email EDIS3Help@usitc.gov. General information concerning the Commission may also be obtained by accessing its internet server at https://www.usitc.gov. Hearing-impaired persons are advised that information on this matter can be obtained by contacting the Commission's TDD terminal on (202) 205-1810.

SUPPLEMENTARY INFORMATION: On October 18, 2022, the Commission instituted this investigation based on a complaint, as amended, filed on behalf of OPEX Corporation of Moorestown, New Jersey (“OPEX”). 87 FR 63089 (Oct. 18, 2022). The complaint alleged violations of section 337 of the Tariff Act of 1930, as amended, 19 U.S.C. 1337, based upon the importation into the United States, the sale for importation, and the sale within the United States after importation of certain automated put walls and automated storage and retrieval systems, associated vehicles, associated control software, and components parts thereof by reason of infringement of certain claims of U.S. Patent Nos. 11,192,144 and 11,358,175. Id. The Commission's notice of investigation names as respondents HC Robotics (a.k.a. Huicang Information Technology Co., Ltd.) of Hangzhou City, China; and Invata, LLC (d/b/a Invata Intralogistics) of Conshohocken, Pennsylvania. Id. The Office of Unfair Import Investigations is not participating in this investigation. Id.

On March 20, 2023, OPEX filed an unopposed motion to terminate the investigation based on its withdrawal of the complaint. On March 27, 2023, the CALJ denied the motion based on excessive redaction in the motion's attached agreement. See Order No. 6 (Mar. 27, 2023). On March 28, 2023, OPEX filed a renewed unopposed motion to terminate the investigation based on a withdrawal of the complaint and containing fewer redactions.

On March 29, 2023, the CALJ issued the subject ID (Order No. 7) pursuant to Commission Rule 210.21(a)(1) (19 CFR 210.21(a)(1)), granting the motion and terminating the investigation. The ID finds that the motion complies with Commission Rule 210.21(a)(1) and that there are no extraordinary circumstances that would prevent the requested relief. No party petitioned for review of the subject ID.

The Commission has determined not to review the subject ID. This investigation is hereby terminated in its entirety.

The Commission vote for this determination took place on April 26, 2023.

The authority for the Commission's determination is contained in section 337 of the Tariff Act of 1930, as amended (19 U.S.C. 1337), and in part 210 of the Commission's Rules of Practice and Procedure (19 CFR part 210).

By order of the Commission.
Issued: April 26, 2023.
Lisa Barton,
Secretary to the Commission.

[FR Doc. 2023-09163 Filed 4-28-23; 8:45 am]

BILLING CODE 7020-02-P